DEPARTMENT OF HEALTH AND HUMAN SERVICES

Office of the Secretary

[Document Identifier: OS-0990-TANF]

Agency Information Collection Activities: Proposed Collection; Comment Request

AGENCY: Office of the Secretary.

In compliance with the requirement of section 3506(c)(2)(A) of the Paperwork Reduction Act of 1995, the Office of the Secretary (OS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

#1 Type of Information Collection Request: New Collection;

Title of Information Collection: Survey of State and Local Contracting Officials on Contracting for Social Services Under Charitable Choice;

Form/OMB No.: OS-0990-TANF;

Use: This data collection will enable HHS to document the extent to which state and local contracting officials in the Temporary Assistance for Needy Families and Substance Abuse Prevention and Treatment programs understand and implement Federal Charitable Choice regulations governing the provisions of social services by faith-based organizations. The information will be collected via a mail survey of a total of 173 respondents at the state and local levels.

Frequency: One time;

Affected Public: State, local, or Tribal governments;

Annual Number of Respondents: 173;

Total Annual Responses: 173;

Average Burden Per Response: 30 to 90 minutes;

Total Annual Hours: 175;

#2 Type of Information Collection Request: New collection;

Title of Information Collection: Implementation of an Internet & Paper-based Uniform Data Set for OMH-funded Activities;

Form/OMB No.: OS-0990-OMH;

Use: Involves transitioning the developed paper-based UDS modules to the Web-based prototype; implementing among OMH-partners. Will be regular system for reporting program management and performance data for all OMH-funded activities.

Frequency: Quarterly;

Affected Public: Not-for-profit institutions and State, Local, or Tribal Government;

Annual Number of Respondents: 2,772;

Total Annual Responses: 2,772;

Average Burden Per Response: 15 minutes to 15 hours;

Total Annual Hours: 2,772;

To obtain copies of the supporting statement and any related forms for the proposed paperwork collections referenced above, access the HHS Web site address at http://www.hhs.gov/oirm/infocollect/pending/ or e-mail your request, including your address, phone number, OMB number, and OS document identifier, to Naomi.Cook@hhs.gov. or call the Reports Clearance Office on (202) 690-6162. Written comments and recommendations for the proposed information collections must be mailed within 30 days of this notice directly to the OMB Desk Officer at the address below:

OMB Desk Officer: Brenda Aguilar. OMB Human Resources and Housing Branch, Attention: (OMB #0990-TANF/OMH), New Executive Office Building, Room 10235, Washington, DC 20503.

Dated: January 16, 2004.
Robert Polson,
Office of the Secretary, Paperwork Reduction Act Reports Clearance Officer.

[FR Doc. 04-1398 Filed 1-22-04; 8:45 am]

BILLING CODE 4168-17-P